DEPARTMENT OF TRANSPORTATION

Federal Aviation Administration

Office of Commercial Space Transportation; Notice of Availability of the Final Environmental Assessment (Final EA), Finding of No Significant Impact (FONSI)/Record of Decision (ROD) for the Kodiak Launch Complex Launch Pad 3, Kodiak Island, Alaska

AGENCY: Federal Aviation Administration (FAA), Department of Transportation (DOT).

ACTION: Notice of availability of the Final EA and FONSI/ROD.

SUMMARY: In accordance with the National Environmental Policy Act of 1969, as amended (NEPA; 42 United States Code 4321 et seq.), Council on Environmental Quality NEPA implementing regulations (40 CFR parts 1500 to 1508), and FAA Order 1050.1E, Change 1, Environmental Impacts: Policies and Procedures, the FAA is announcing the availability of the Final EA and FONSI/ROD for the Kodiak Launch Complex Launch Pad 3.

FOR FURTHER INFORMATION CONTACT: Ms. Stacey M. Zee, Office of Commercial Space Transportation, Federal Aviation Administration, 800 Independence Ave. SW., Suite 325, Washington DC 20591; email Stacey.Zee@faa.gov; telephone (202) 267-9305.

SUPPLEMENTARY INFORMATION: The Final EA was prepared to analyze the potential environmental impacts of the FAA modifying the Alaska Aerospace Corporation's (AAC's) Launch Site Operator License to include medium-lift launch capability at the Kodiak Launch Complex (KLC), a commercial launch site currently operated under a FAA Launch Site Operator License (LSO-03-008), which authorizes only small-lift operations. The Kodiak Launch Complex was renamed as Pacific Spaceport Complex Alaska, effective April 21, 2015. The EA keeps the name as KLC for continuity and ease of reviewing.

Expansion of launch capabilities at KLC would include the addition of new infrastructure necessary to support medium-lift launches, including the construction of a launch pad and associated facilities. As part of the Proposed Action addressed in the EA, AAC would make improvements to the KLC to add both solid and liquid-propellant, medium-lift launch capability, and to operate the KLC in the future as a small-lift and medium-lift launch complex. Proposed construction at KLC includes six primary modifications: Construction of Launch Pad 3 (LP3), a vehicle processing facility, rocket staging facility, liquid fuel facility, mission control center and improvements to Pasagshak Point Road. Proposed launch operations would include up to six orbital small-lift launches and three medium-lift launches per year from the existing launch pads and from the proposed LP3; however, to be conservative in the analysis of potential environmental impacts, the EA assumes a maximum of nine medium-lift launches per year.

The EA addresses the potential environmental impacts of implementing the Proposed Action and the No Action Alternative. Under the No Action Alternative, the FAA would not modify AAC's Launch Site Operator License to include medium-lift launch capability and AAC would not proceed with the construction of medium-lift launch support infrastructure at KLC. Existing launch activities for up to nine orbital small-lift class launches per year from the existing launch pads would continue.

The impact categories considered in the EA include air quality; compatible land use; Department of Transportation Act: Section 4(f); fish, wildlife, and plants; hazardous materials, pollution prevention, and solid waste; historical, architectural, archaeological, and cultural resources; light emissions and visual impacts; natural resources and energy supply; noise; socioeconomic, environmental justice, and children's environmental health and safety risk; water quality; and wetlands. The EA also considers potential cumulative environmental impacts.

The FAA has posted the Final EA and FONSI/ROD on the FAA Office of Commercial Space Transportation Web site: http://www.faa.gov/about/office_org/headquarters_offices/ast/environmental/nepa_docs/review/operator/.

The FAA published a Notice of Availability (NOA) of the Draft EA in the Federal Register on September 15, 2014. An electronic version was also made available on the FAA Web site. In addition, the FAA printed and mailed a copy of the Draft EA to local libraries. The FAA held an open house public meeting on October 7, 2014. The public comment period for the Draft EA ended on November 1, 2014. After taking into consideration the nature of public comments received on the Draft EA, the FAA issued a Second Draft EA and provided the public with an opportunity to review and comment on updates and clarification information that had since been added to the EA in response to public comments. The FAA published a NOA of the Second Draft EA in the Federal Register on December 7, 2015. Interested parties were invited to submit comments on the Second Draft EA by January 11, 2016. Public comments on the Second Draft EA resulted in minor changes to the EA.

Issued in Washington, DC, on April 11, 2016.
Daniel Murray,
Manager, Space Transportation Development Division.

[FR Doc. 2016-08746 Filed 4-14-16; 8:45 am]

BILLING CODE 4310-13-P